DEPARTMENT OF COMMERCE

International Trade Administration

[A-580-841]

Structural Steel Beams from Korea; Notice of Final Results of Antidumping Duty Administrative Review

AGENCY: Import Administration, International Trade Administration, Department of Commerce.

SUMMARY: On September 3, 2004, the Department of Commerce (the Department) published the preliminary results of administrative review of the antidumping order covering structural steel beams from the Republic of Korea. See Structural Steel Beams from Korea: Preliminary Results of Antidumping Duty Administrative Review, 69 FR 53887 (September 3, 2004) (Preliminary Results). The merchandise covered by this order is structural steel beams as described in the “Scope of the Review” section of this notice. The period of review (POR) is August 1, 2002, through July 31, 2003. We invited parties to comment on our Preliminary Results. Based on our analysis of the comments received, we have not made any changes in the margin calculations. Therefore, the final results are unchanged from the preliminary results. The final weighted-average dumping margins for the reviewed firms are listed below in the section entitled “Final Results of the Review.”

EFFECTIVE DATE: February 9, 2005.

FOR FURTHER INFORMATION CONTACT: Mark Flessner or Robert James, at (202) 482-6312 or (202) 482-0649, respectively, AD/CVD Operations, Office 7, Import Administration, International Trade Administration, U.S. Department of Commerce, 14th Street and Constitution Avenue, NW, Washington, DC 20230.

SUPPLEMENTARY INFORMATION:

Scope of the Review

The products covered by this review are doubly-symmetric shapes, whether hot- or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes) and “M” shapes. All products that meet the physical and metallurgical descriptions provided above are within the scope of this review unless otherwise excluded. The following products are outside and/or specifically excluded from the scope of this review: structural steel beams greater than 400 pounds per linear foot or with a web or section height (also known as depth) over 40 inches.

The merchandise subject to this review is classified in the Harmonized Tariff Schedule of the United States (HTSUS) at subheadings: 7216.32.00000, 7216.33.0030, 7216.33.0060, 7216.33.0090, 7216.50.0000, 7216.61.0000, 7216.69.0000, 7216.91.0000, 7216.99.0000, 7216.99.0010, 7216.99.0090, 7228.70.3040, and 7228.70.6000. Although the HTSUS subheadings are provided for convenience and Customs purposes, the written description of the merchandise is dispositive.

Analysis of Comments Received

All issues raised in the case and rebuttal briefs by parties to this administrative review are addressed in “Issues and Decision Memorandum for the Administrative Review of the Antidumping Duty Order for Structural Steel Beams from the Republic of Korea: Notice of Final Results of Antidumping Duty Administrative Review (A-580-841),” dated February 1, 2005 (Decision Memorandum), which is hereby adopted by this notice. A list of the issues which parties have raised and to which we have responded, all of which are in the Decision Memorandum, is attached to this notice as an appendix. Parties can find a complete discussion of all issues raised in this review and the corresponding recommendations in this public memorandum which is on file in room B-099 of the main Department of Commerce building. In addition, a complete version of the Decision Memorandum can be accessed directly on the internet at www.ia.ita.doc.gov. The paper copy and electronic version of the Decision Memorandum are identical in content.

Changes Since the Preliminary Results

Based on our analysis of comments received, we have not made any changes in the margin calculations.

Final Results of the Review

We determine the following percentage weighted-average margins exist for the period August 1, 2002, through July 31, 2003:

Manufacturer / Exporter | Weighted Average Margin
INI Steel Company | 16.62 percent
Dongkuk Steel Mill Co., Ltd. | 4.39 percent

Liquidation

The Department shall determine, and U.S. Customs and Border Protection (CBP) shall assess, antidumping duties on all appropriate entries. In accordance with 19 CFR 351.212(b)(1), we have calculated importer-specific assessment rates. To calculate these rates, we divided the total dumping margins for the reviewed sales by the total entered value of those reviewed sales for each importer. The Department will issue appropriate assessment instructions directly to CBP within 15 days of publication of these final results of review. We will direct CBP to assess the appropriate assessment rate against the entered Customs values for the subject merchandise on each of the importer's entries under the relevant order during the POR.

Cash Deposit Requirements

The following deposit requirements will be effective upon publication of this notice of final results of administrative review for all shipments of structural steel beams from Korea entered, or withdrawn from warehouse, for consumption on or after the date of publication, as provided by section 751(a)(1) of the Tariff Act: (1) The cash deposit rate for the reviewed company will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 37.21 percent. This rate is the “All Others” rate from the amended final determination in the LTFV investigations. See Notice of Amended Final Determination of Sales at Less Than Fair Value: Structural Steel Beams From South Korea, 65 FR 50501, 50502 (August 18, 2000).

These deposit requirements shall remain in effect until publication of the final results of the next administrative review.

This notice also serves as a final reminder to importers of their responsibility under 19 CFR 351.402(f) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing this determination and notice in accordance with sections 751(a)(1) and 777(i) of the Tariff Act.

Dated: February 1, 2005.
Barbara E. Tillman,
Acting Assistant Secretary for Import Administration.

APPENDIX

Comments and Responses

1. Revision of the Model Match Characteristics

2. Affiliation of Dongkuk Steel Mill Co., Ltd. and Dongkuk Industries Co., Ltd.

3. Level of Trade for Dongkuk Steel Mill Co., Ltd.

[FR Doc. E5-533 Filed 2-8-05; 8:45 am]

BILLING CODE 3510-DS-S